GOVERNMENT ACCOUNTABILITY OFFICE

Comptroller General's Advisory Council on Government Auditing Standards; Notice of Meeting

The Advisory Council on Government Auditing Standards will meet Tuesday, April 19, 2016, from 9:00 a.m. to 3:15 p.m., in the Staats Briefing Room (7C13) of the U.S. Government Accountability Office building, 441 G Street NW., Washington, DC.

The Advisory Council on Government Auditing Standards will hold a meeting to discuss updates and revisions of the 2011 Revision of Government Auditing Standards. The meeting is open to the public. Members of the public will be provided an opportunity to address the Council with a brief (five-minute) presentation in the afternoon on matters directly related to the proposed update and revision.

Any interested person who plans to attend the meeting as an observer must contact Cecil Davis, Engagement Operations Assistant, 202-512-9362. A form of picture identification must be presented to the GAO Security Desk on the day of the meeting to obtain access to the GAO building. You must enter the building at the G Street entrance. For further information, please contact Ms. Davis. The meeting agenda will be available upon request one week before the meeting.

[Pub. L. 67-13, 42 Stat. 20 (June 10, 1921).]

James R. Dalkin,
Director, Financial Management and Assurance.

[FR Doc. 2016-06051 Filed 3-16-16; 8:45 am]

BILLING CODE 1610-02-P